FEDERAL COMMUNICATIONS COMMISSION

Notice of Public Information Collection(s) Being Reviewed by the Federal Communications Commission for Extension Under Delegated Authority, Comments Requested

May 28, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments August 10, 2009. If you anticipate that you will be submitting comments, but find it difficult to do so within the period of time allowed by this notice, you should advise the contact listed below as soon as possible.

ADDRESSES: Direct all PRA comments to Nicholas A. Fraser, Office of Management and Budget (OMB), via fax at 202-395-5167, or the Internet at Nicholas_A._Fraser@omb.eop.gov and to Judith-B.Herman@fcc.gov, Federal Communications Commission (FCC). To submit your comments by e-mail send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith B. Herman at 202-418-0214.

SUPPLEMENTARY INFORMATION:

OMB Control Number: 3060-0910.

Title: Third Report and Order in CC Docket No. 94-102, To Ensure Compatibility with Enhanced 911 Calling Systems.

Form No.: N/A.

Type of Review: Extension of a currently approved collection.

Respondents: Business or other for-profit and not-for-profit institutions.

Number of Respondents: 4,000 respondents; 4,000 responses.

Estimated Time per Response: 1 hour.

Frequency of Response: On occasion reporting requirement.

Obligation to Respond: Mandatory. Statutory authority for these information collections are contained in 47 U.S.C. Sections 1, 4(i), 201, 303, 309 and 332 of the Communications Act of 1934, as amended.

Total Annual Burden: 4,000 hours.

Total Annual Cost: N/A.

Privacy Act Impact Assessment: N/A.

Nature and Extent of Confidentiality: There is no need for confidentiality.

Needs and Uses: The Commission will submit this information collection to the Office of Management and Budget (OMB) after this 60 day comment period in order to obtain the full three year clearance from them. The Commission is requesting an extension (no change in the reporting requirement) of this information collection. There is no change in the burden estimates.

The Third Report and Order (R&O) in CC Docket No. 94-102 adopted rules applicable to wireless carriers to permit the use of network-based solutions, handset-based solutions, or hybrid solutions. The rules require changes both to handsets and wireless networks in providing caller location information as part of Enhanced 911 (E911) services. The Commission adopted the Third R&O to encourage the deployment of the best location technology for each area being served, promote competition in E911 location technology, and speed implementation of E911. As part of the rules, the Third R&O also adopted a requirement that wireless carriers report their plans for implementing Phase II E911 service to the Commission. Specifically, this report must include the technology they plan to use to provide caller location as well as information to enable public safety organizations, equipment manufacturers, local exchange carriers, and the Commission to plan and support Phase II deployment. The Commission required wireless carriers to file these initial reports in 2000. Carriers are required to update these plans within 30 days of the adoption of any change. The reporting requirements are discussed in detail in 47 CFR 20.18(i).

The information submitted to the Commission will provide public service answering points (PSAPs), providers of location technology, investors, manufacturers, local exchange carriers, and the Commission with valuable information necessary for full Phase II E911 service implementation. These reports will provide helpful, if not essential information for coordinating carrier plans with those manufacturers and PSAPs. The reports will also assist the Commission's efforts to monitor Phase II developments and take action, if necessary, to maintain the Phase II implementation schedule.

OMB Control Number: 3060-1004.

Title: Commission Rules To Ensure Compatibility with Enhanced 911 Calling Systems.

Form No.: N/A.

Type of Review: Extension of a currently approved collection.

Respondents: Business or other for-profit, not-for-profit institutions, and state, local or tribal government.

Number of Respondents: 97 respondents; 283 responses.

Estimated Time per Response: 4—5 hours.

Frequency of Response: Quarterly, semi-annual and one-time reporting requirements.

Obligation to Respond: Required to obtain or retain benefits. Statutory authority for these information collections are contained in 47 U.S.C. Sections 1, 4(i), 201, 303, 309 and 332 of the Communications Act of 1934, as amended.

Total Annual Burden: 1,202 hours.

Total Annual Cost: N/A.

Privacy Act Impact Assessment: N/A.

Nature and Extent of Confidentiality: There is no need for confidentiality. However, if applicants want to seek confidential treatment of their documents, they may do so under 47 CFR 0.459 of the Commission's rules.

Needs and Uses: The Commission will submit this information collection to the Office of Management and Budget (OMB) after this 60 day comment period in order to obtain the full three year clearance from them. The Commission is requesting an extension (no change in the reporting requirements) of this information collection. There is a minor adjustment to the estimated number of respondents and responses. There is no change in the estimated hourly burden.

The Commission's E911 Phase II rules require wireless licensees to provide Public Safety Answering Points (PSAPs) with Automatic Location Identification (ALI) information for 911 calls. Licensees can provide ALI information by deploying location information technology in their networks (a network-based solution), or Global Positioning System (GPS), or other location technology in subscriber's handsets (a handset-based solution). The Commission's rules also establish phased-in schedules for carriers to deploy any necessary network components and begin providing Phase II service. However, before a wireless licensee's obligation to provide E911 service is triggered, a PSAP must make a valid request for E911 service, i.e., the PSAP must be capable of receiving and utilizing the data elements associated with the service and must have a mechanism in place for recovering its costs.

In addition to deploying the network facilities necessary to deliver location information, wireless licensees that elect to employ a handset-based solution must meet the handset deployment benchmark set forth in 47 CFR 20.18(g)(1) of the Commission's rules, independent of any PSAP request for Phase II service. After ensuring that 100 percent of all new digital handsets activated are location-capable, licensees must have achieved 95 percent penetration among their subscribers of location-capable handsets no later than December 31, 2005.

The Commission has recognized that “special circumstances” may warrant a waiver of the E911 Phase II requirements. The Commission also noted that small carriers may face “extraordinary circumstances” in meeting one or more of the deadlines for Phase II deployment. Pursuant to 47 CFR 1.925(b)(3), the Commission may grant a request for waiver if the underlying purpose of the rule(s) would not be served or would be frustrated by application to the instant case, and that grant would be in the public interest; or, in view of unique or unusual factual circumstances, application of the rule(s) would be inequitable, unduly burdensome, or contrary to the public interest, or the applicant has no reasonable alternative.

Finally, distinct from the Commission's rules and precedent regarding waivers of the E911 requirements, in December 2004, Congress enacted the Ensuring Needed Help Arrives Near Callers Employing 911 Act of 2004, Public Law 108-494 (ENHANCE 911 Act). The ENHANCE 911 Act, inter alia, directs the Commission to act on any petition filed by a qualified Tier III carrier requesting a waiver of 47 CFR 20.18(g)(1)(v) within 100 days of receipt, and grant such request for waiver if “strict enforcement of the requirements of that section would result in consumers having decreased access to emergency services.”

The Commission originally established reporting requirements in an order released in October 2001, which received OMB approval. Nationwide wireless carriers (Tier I) generally must have quarterly reports with the Commission on February 1, May 1, August 1 and November 1 of each year, with the exception of T-Mobile, which is required to file semi-annual reports (as of October 2002). Mid-sized carriers (Tier II) also were required to file quarterly reports under this same time schedule.

The previously approved information collection under this OMB control number was revised (in 2006) to include the information requirements that the quarterly reports, beginning with the August 1, 2003 filing, be submitted in an Excel spreadsheet as an appendix to Tier I and Tier II carrier narrative reports. The existing information collection only required Tier III carriers to file a one-time interim report. Tier III wireless carriers were also not required to submit an Excel spreadsheet with their one-time filings.

Federal Communications Commission.
Marlene H. Dortch,
Secretary.

[FR Doc. E9-13648 Filed 6-9-09; 8:45 am]

BILLING CODE 6712-01-P